DEPARTMENT OF HEALTH AND HUMAN SERVICES

Centers for Disease Control and Prevention

[Program Announcement 03104]

Strengthening Infectious Disease Control in the Democratic Republic of the Congo; Notice of Intent To Fund Single Eligibility Award

A. Purpose

The Centers for Disease Control and Prevention (CDC) announces the intent to fund fiscal year (FY) 2003 funds for a cooperative agreement program to strengthen the capacities of national control programs and local nongovernmental organization partners to reduce the transmission and impact of HIV/AIDS, other sexually transmitted infections (STIs), Tuberculosis (TB) and Malaria. The Catalog of Federal Domestic Assistance number for this program is 93.947.

B. Eligible Applicant

Assistance will be provided only to the Kinshasa School of Public Health (KSPH). No other applications are being solicited. The KSPH is the only appropriate and qualified organization to conduct a specific set of activities supportive of the CDC Global AIDS Program's technical assistance to the DRC for the following reasons:

• The KSPH is strategically placed to coordinate work with key departments of the Ministry of Health (MOH) and other DRC ministries as well as local and international partners.

• The KSPH has a well-grounded base of understanding and working knowledge of basic public health principles, specifically in the areas of research, monitoring, evaluation, training and formal public health education. KSPH is the only institution of its caliber in Central Africa.

• The KSPH has extensive experience in working on infectious disease control activities with U.S. Government agencies, including CDC and USAID, as well as collaborating partners such as Family Health International (FHI).

• The KSPH has a transparent and flexible administrative and financial management capacity to conduct extensive public health and infectious disease control activities in active collaboration with CDC and the MOH.

The KSPH is uniquely situated to operate as an independent, third party health institution that maintains a strategic separation administratively and organizationally from the official governmental structures.

C. Funding

Approximately $500,000 is available in FY 2003 to fund this award. It is expected that the award will begin on or before September 15, 2003, and will be made for a 12-month budget period within a project period of up to five years. Funding estimate may change.

D. Where To Obtain Additional Information

For general comments or questions about this announcement, contact: Technical Information Management, CDC Procurement and Grants Office, 2920 Brandywine Road, Atlanta, GA 30341-4146, Telephone: 770-488-2700.

For technical questions about this program, contact: Karen Hawkins-Reed, Public Health Advisor, CDC/GAP/DRC, Unit 31550, APO AE 908282-1550, Telephone: 243-997-0829, FAX: 243-880-3274, e-mail: kyh0@cdc.gov.

Dated: August 4, 2003.
Edward Schultz,
Acting Director, Procurement and Grants Office, Centers for Disease Control and Prevention.

[FR Doc. 03-20234 Filed 8-7-03; 8:45 am]

BILLING CODE 4163-18-U